DEPARTMENT OF DEFENSE

Office of the Secretary

[Docket ID: DOD-2009-OS-0082]

Privacy Act of 1974; System of Records

AGENCY: Defense Information Systems Agency, DoD.

ACTION: Notice to amend a System of Records.

SUMMARY: Defense Information Systems Agency proposes to amend a system of records notice in its existing inventory of records systems subject to the Privacy Act of 1974 (5 U.S.C. 552a), as amended.

DATES: This proposed action will be effective without further notice on July 16, 2009 unless comments are received which result in a contrary determination.

ADDRESSES: Send comments to the Defense Information Systems Agency, 5600 Columbia Pike, Room 933-I, Falls Church, VA 22041-2705.

FOR FURTHER INFORMATION CONTACT: Ms. Jeanette M. Weathers-Jenkins at (703) 681-2103.

SUPPLEMENTARY INFORMATION: The Defense Information Systems Agency systems of records notices subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: June 8, 2009.
Morgan E. Frazier,
Alternate OSD Federal Register Liaison Officer, Department of Defense.

KWHC.01

System name:

Agency Training File System (February 22, 1993, 58 FR 10562).

Changes:

* * * * *

Categories of individuals covered by the system:

Delete entry and replace with “Any military employee undergoing formal commercial training, Agency Training, Academy Training, or Military Occupational Specialty (MOS) training.”

Categories of records in the system:

Delete entry and replace with “Individual's name, address, birth date, Social Security Number (SSN), Individual Training Record (ITR) includes information on training progress, examination records and results of qualification boards and/or examinations leading to the designated qualification and training state.”

Authority for maintenance of the system:

Delete entry and replace with “5 U.S.C. 41, The Government Employees Training Act; E.O. 11348, Providing for the further training of Government employees, as amended by E.O. 12107, Relating to the Civil Service Commission and labor-management in the Federal Service; 5 CFR part 410, Office of Personnel Management-Training and E.O. 9397 (SSN).”

* * * * *

Storage:

Delete entry and replace with “Electronic storage media.”

Retrievability:

Delete entry and replace with “Retrieved by name or Social Security Number (SSN).”

Safeguards:

Delete entry and replace with “Records are maintained in secure, limited access, or monitored areas. Database is monitored and access is password protected. Physical entry by unauthorized persons is restricted through the use of locks, guards, passwords, or other administrative procedures. Access to personal information is limited to those individuals who require the records to perform their official assigned duties.”

* * * * *

System manager(s) and address:

Delete entry and replace with “White House Communications Agency, 2743 Defense Blvd., SW., Anacostia Annex, DC 20373-5117.”

Notification procedure:

Delete entry and replace with “Individuals seeking to determine whether information about themselves is contained in this system should address written inquiries to the White House Communications Agency, 2743 Defense Blvd., SW., Anacostia Annex, DC 20373-5117.

Written requests for information should contain the full name of the individual, current address and telephone number and category of information requested.

For personal visits, the individual should be able to provide some acceptable identification, such as driver's license, employee or military identification card.”

Record access procedures:

Delete entry and replace with “Individuals seeking access to information about themselves contained in this system should address written inquiries to the White House Communications Agency, 2743 Defense Blvd, SW., Anacostia Annex, DC 20373-5117.

Written requests for information should contain the full name of the individual, current address and telephone number and category of information requested.

For personal visits, the individual should be able to provide some acceptable identification, such as a driver's license, employee or military identification card.”

KWHC.01

System name:

Agency Training File System.

System location:

Primary System-Adjutant, Defense Information Systems Agency Administrative Unit. Official mailing addresses are published as an appendix to DISA's compilation of systems of records notices.

Decentralized Segments-Defense Communications Operations Unit, White House Communications Defense Communications Support Unit. Official mailing addresses are published as an appendix to DISA's compilation of systems of records notices.

Categories of individuals covered by the system:

Any military employee undergoing formal commercial training, Agency Training Academy Training, or Military Occupational Specialty (MOS) training.

Categories of records in the system:

Individual's name, address, birth date, Social Security number (SSN), Individual Training Record (ITR) includes information on training progress, examination records and results of qualification boards and/or examinations leading to the designated qualification and training state.

Authority for maintenance of the system:

5 U.S.C. 41, The Government Employees Training Act; E.O. 11348, Providing for the further training of Government employees, as amended by E.O. 12107, Relating to the Civil Service Commission and labor-management in the Federal Service; 5 CFR part 410, Office of Personnel Management-Training and E.O. 9397 (SSN).

Purpose(s):

Provide agency and individual training for job efficiency, advancement and to increase individual production. Qualify individuals in all occupations and details within agency. Meet service requirements for annual occupation testing. Instill confidence and motivation for self-improvement and enhance promotion potential. Establish clear path for increase in qualification throughout career development.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The `Blanket Routine Uses' set forth at the beginning of the DISA's compilation of systems of records notices apply to this system.

Policies and practices for storing, retrieving, accessing, retaining, and disposing of records in the system:

Storage:

Electronic storage media.

Retrievability:

Retrieved by name or Social Security Number (SSN).

Safeguards:

Records are maintained in secure, limited access, or monitored areas. Database is monitored and access is password protected. Physical entry by unauthorized persons is restricted through the use of locks, guards, passwords, or other administrative procedures. Access to personal information is limited to those individuals who require the records to perform their official assigned duties.

Retention and disposal:

Records are permanent. They are retained in active file during active career, retired to service transfer point on release from active duty.

System manager(s) and address:

White House Communications Agency, 2743 Defense Blvd., SW., Anacostia Annex, DC 20373-5117.

Notification procedure:

Individuals seeking to determine whether information about themselves is contained in this system should address written inquiries to the White House Communications Agency, 2743 Defense Blvd., SW., Anacostia Annex, DC 20373-5117.

Written requests for information should contain the full name of the individual, current address and telephone number and category of information requested.

For personal visits, the individual should be able to provide some acceptable identification, such as driver's license, employee or military identification card.

Record access procedures:

Individuals seeking access to information about themselves contained in this system should address written inquiries to the White House Communications Agency, 2743 Defense Blvd., SW., Anacostia Annex, DC 20373-5117.

Written requests for information should contain the full name of the individual, current address and telephone number and category of information requested.

For personal visits, the individual should be able to provide some acceptable identification, such as a driver's license, employee or military identification card.

Contesting record procedures:

DISA's rules for accessing records, for contesting contents and appealing initial agency determinations are published in DISA Instruction 210-225-2; 32 CFR part 316; or may be obtained from the system manager.

Record source categories:

Application and related forms from individual, performance tests, recommendations, service departments, written tests, previous commands and records custodians.

Exemptions claimed for the system:

None.

[FR Doc. E9-14100 Filed 6-15-09; 8:45 am]

BILLING CODE 5001-06-P